COMMISSION ON CIVIL RIGHTS

Agenda and Notice of Public Meeting of the Vermont Advisory Committee

Notice is hereby given, pursuant to the provisions of the rules and regulations of the U.S. Commission on Civil Rights, that a conference call of the Vermont Advisory Committee to the Commission will convene at 10 a.m. and adjourn at 11:15 a.m. on March 31, 2003. The purpose of the conference call is to discuss the Completion of planning for the upcoming April 9, 2003, town hall meeting in Montpelier. The conference call is available to the public through the following call-in number: 1-800-659-8304, access code 15920877. Any interested member of the public may call this number and listen to the meeting.

To ensure that the Commission secures an appropriate number of lines, persons are asked to register with USCCR by calling Marc Pentino of the Eastern Regional Office, 202-376-7533 (TDD 202-376-8116), by 4 p.m. on March 28, 2003.

The meeting will be conducted pursuant to the provisions of the rules and regulations of the Commission.

Dated in Washington, DC., March 17, 2003.
Ivy L. Davis,
Chief, Regional Programs Coordination Unit.

[FR Doc. 03-7032 Filed 3-24-03; 8:45 am]

BILLING CODE 6335-01-P